DEPARTMENT OF HEALTH AND HUMAN SERVICES

National Institutes of Health

Eunice Kennedy Shriver National Institute of Child Health & Human Development; Notice of Partially Closed Meeting

Pursuant to section 1009 of the Federal Advisory Committee Act, as amended, notice is hereby given of a meeting of the National Advisory Child Health and Human Development Council.

The meeting will be partially open to the public as indicated below. Individuals who plan to attend as well as those who need special assistance, such as sign language interpretation or other reasonable accommodations, must notify the Contact Person listed below in advance of the meeting. The open session will be videocast and can be accessed from the NIH Videocasting and Podcasting website (http://videocast.nih.gov/).

The meeting will be closed to the public in accordance with the provisions set forth in sections 552b(c)(4) and 552b(c)(6), Title 5 U.S.C., as amended. The intramural programs and projects as well as the grant applications and/or contract proposals and the discussions could disclose confidential trade secrets or commercial property such as patentable material, and personal information concerning individuals associated with the grant applications and/or contract proposals, the disclosure of which would constitute a clearly unwarranted invasion of personal privacy.

Name of Committee: National Advisory Child Health and Human Development Council.

Date: January 26-27, 2026.

Open: January 26, 2026, 12:00 p.m. to 5:00 p.m.

Agenda: Call to order and introductory remarks; NICHD Acting Director's Report; Invited Director, NIA; Scientific Presentation; Voice of the Participant; Concept Clearance; Closing Remarks.

Address: Eunice Kennedy Shriver National Institute of Child Health and Human Development, National Institutes, 6710 B Rockledge Drive, Bethesda, MD 20817.

Meeting Format: Virtual.

Closed: January 27, 2026, 9:00 a.m. to 12:00 p.m.

Agenda: To review and evaluate grant applications and or proposals.

Address: Eunice Kennedy Shriver National Institute of Child Health and Human Development, National Institutes, 6710 B Rockledge Drive, Bethesda, MD 20817.

Meeting Format: Virtual Meeting.

Contact Person: Rebekah S. Rasooly, Ph.D., Eunice Kennedy Shriver National Institute of Child Health and Human Development, NIH, 6710B Rockledge Drive, Bethesda, MD 20817, Phone: 301-827-2599, Email: Rebekah.rasooly@nih.gov.

Registration is not required to attend the open portion of this meeting.

Any interested person may file written comments with the committee by forwarding the statement to the Contact Person listed on this notice. The statement should include the name, address, telephone number and when applicable, the business or professional affiliation of the interested person.

Information is also available on the Institute's/Center's home page: https://www.nichd.nih.gov/about/advisory/council, where an agenda and any additional information for the meeting will be posted when available.

(Catalogue of Federal Domestic Assistance Program No. 93.242, Mental Health Research Grants, National Institutes of Health, HHS)

Dated: September 19, 2025.
Rosalind M. Niamke,
Program Analyst, Office of Federal Advisory Committee Policy.

[FR Doc. 2025-18465 Filed 9-23-25; 8:45 am]

BILLING CODE 4140-01-P